DEPARTMENT OF COMMERCE

National Oceanic and Atmospheric Administration

RIN 0648-XA656

North Pacific Fishery Management Council; Public Meeting

AGENCY: National Marine Fisheries Service (NMFS), National Oceanic and Atmospheric Administration (NOAA), Commerce.

ACTION: Notice of a public meeting.

SUMMARY: The North Pacific Fishery Management Council (Council) Salmon Fishery Management Plan (FMP) Workgroup will meet in Anchorage, AK.

DATES: The meeting will be held on September 14, 2011, from 9 a.m. to 5 p.m.

ADDRESSES: The meeting will be held at the Clarion Suites, 1110 West 8th Avenue, Anchorage AK.

Council address: North Pacific Fishery Management Council, 605 W. 4th Ave., Suite 306, Anchorage, AK 99501-2252.

FOR FURTHER INFORMATION CONTACT: David Witherell, Council staff; telephone: (907) 271-2809.

SUPPLEMENTARY INFORMATION: Review of possible revisions to the Salmon Fishery Management Plan (FMP), and discussion/review of initial analysis.

Special Accommodations

This meeting is physically accessible to people with disabilities. Requests for sign language interpretation or other auxiliary aids should be directed to Gail Bendixen at (907) 271-2809 at least 7 working days prior to the meeting date.

Dated: August 18, 2011.
Tracey L. Thompson,
Acting Director, Office of Sustainable Fisheries, National Marine Fisheries Service.

[FR Doc. 2011-21580 Filed 8-23-11; 8:45 am]

BILLING CODE 3510-22-P